DEPARTMENT OF JUSTICE

Parole Commission

Certification of Meeting Closure

Pursuant to the Government in the Sunshine Act (Pub. L. 94-409) [5 U.S.C. Section 552b]

I, Helen H. Krapels, General Counsel of the United States Parole Commission, certify, pursuant to 5 U.S.C. Section 552b(f)(1):

In my opinion a meeting of the Commission to be held on Tuesday, July 13, 2021 at approximately 2:00 p.m., at the U.S. Parole Commission, 90 K Street NE, Washington, DC 20530, could be closed to the public in the event that a majority of the Commissioners present vote to close said meeting at the beginning thereof, with the vote properly recorded.

The exemptions of the Government in the Sunshine Act that may allow closing the meeting to the public 5 U.S.C. 552b(c)(10) and (d)(4) (for applicable Parole Commission regulations see 28 CFR 16.203(a)(10), 16.205(a) and 16.205(b)(1)). In addition, the following laws and regulations may apply to exempt disclosure to the public portions of the subject matter of this meeting: 5 U.S.C. 552b(c)(3), (6) and (7) and 28 CFR 16.203(a)(3), (6), and (7).

In witness whereof, I have signed this document (and affixed the seal of the United States Parole Commission) this July 1, 2021.

Helen H. Krapels,
General Counsel, United States Parole Commission.

[FR Doc. 2021-14489 Filed 7-7-21; 8:45 am]

BILLING CODE P